DEPARTMENT OF HEALTH AND HUMAN SERVICES

Centers for Disease Control and Prevention

Privacy Act of 1974; Report of Modified or Altered System of Records

AGENCY: Division of Applied Research and Technology (DART), National Institute for Occupational Safety and Health (NIOSH), Centers for Disease Control and Prevention (CDC), Department of Health and Human Services (DHHS).

ACTION: Notification of Proposed Altered System of Records.

SUMMARY: The Department of Health and Human Services proposes to alter System of Records, 09-20-0117, “Medical and Test Record Results of Individuals Involved in NIOSH Laboratory Studies, HHS/CDC/NIOSH.” HHS is proposing to add the following Breach Response Routine Use Language to comply with the Office of Management and Budget (OMB) Memoranda (M) 07-16, Safeguarding Against and responding to the Breach of Personally Identifiable Information.

To appropriate Federal agencies and Department contractors that have a need to know the information for the purpose of assisting the Department's efforts to respond to a suspected or confirmed breach of the security or confidentiality of information disclosed is relevant and necessary for that assistance.

These records will be maintained by the National Institute for Occupational Safety and Health (NIOSH).

DATES: Comments must be received on or before February 24, 2011. The proposed altered System of Records will be effective 40 days from the date submitted to the OMB, unless NIOSH receives comments that would result in a contrary determination.

ADDRESSES: You may submit comments, identified by the Privacy Act System of Record Number 09-20-0117:

• Federal eRulemaking Portal: http://regulations.gov. Follow the instructions for submitting comments.

• E-mail: Include PA SOR number 09-20-0117 in the subject line of the message.

• Phone: 770/488-8660 (not a toll-free number).

• Fax: 770/488-8659.

• Mail: HHS/CDC Senior Official for Privacy (SOP), Office of the Chief Information Security Officer (OCISO), 4770 Buford Highway—M/S: F-35, Chamblee, GA 30341.

• Hand Delivery/Courier: HHS/CDC Senior Official for Privacy (SOP), Office of the Chief Information Security Officer (OCISO), 4770 Buford Highway—M/S: F-35, Chamblee, GA 30341.

• Comments received will be available for inspection and copying at this same address from 9 a.m. to 3 p.m., Monday through Friday, Federal holidays excepted.

SUPPLEMENTARY INFORMATION: NIOSH proposes to alter System of Records, No. 09-20-0117, “Medical and Test Record Results of Individuals Involved in NIOSH Laboratory Studies, HHS/CDC/NIOSH.” The purpose of this system is to develop composite data summaries to support the development of criteria for occupational safety and health standards, and to provide other recommendations for improving worker safety and health.

This System of Record Notice is being altered to add the Breach Response Routine Use Language to comply with the Office of Management and Budget (OMB) memorandum dated May 22, 2007.

The following notice is written in the present tense, rather than the future tense, in order to avoid the unnecessary expenditure of public funds to republish the notice after the System has become effective.

Dated: December 11, 2009.
James D. Seligman,
Chief Information Officer, Centers for Disease Control and Prevention.

Editorial Note: This document was received at the Office of the Federal Register on December 27, 2010.

Department of Health and Human Services (HHS)

Centers for Disease Control and Prevention (CDC)

National Institute for Occupational Safety and Health (NIOSH)

Medical and Test Record Results of Individuals Involved in NIOSH Laboratory Studies—Report of Modified or Altered System of Records

Narrative Statement

I. Background and Purpose of the System

A. Background

The Department of Health and Human Services proposes to alter System of Records, No. 09-20-0117 “Medical and Test Record Results of Individuals Involved in NIOSH Laboratory Studies, HHS/CDC/NIOSH.” HHS is proposing to add the following Breach Response Routine Use Language to comply with the Office of Management and Budget (OMB) Memoranda (M) 07-16, Safeguarding Against and Responding to the Breach of Personally Identifiable Information:

To appropriate federal agencies and Department contractors that have a need to know the information for the purpose of assisting the Department's efforts to respond to a suspected or confirmed breach of the security or confidentiality of information disclosed is relevant and necessary for that assistance.

B. Purpose

The purpose of this system is to develop composite data summaries to support the development of criteria for occupational safety and health standards, and to provide other recommendations for improving worker safety and health.

II. Authority for Maintenance of the System

Occupational Safety and Health Act, Section 20, “Research and Related Activities” (29 U.S.C. 669); and the Federal Mine Safety and Health Act of 1977, Section 501, “Research” (30 U.S.C. 951).

III. Proposed Routine Use Disclosures of Data in the System

The Privacy Act allows us to disclose information without an individual's consent if the information is to be used for a purpose that is compatible with the purpose(s) for which the information was collected. Any such compatible use of data is known as a “routine use.” The routine uses proposed for this System are compatible with the stated purpose of the System:

Disclosure may be made to a congressional office from the record of an individual in response to a verified inquiry from the congressional office made at the written request of that individual.

In the event of litigation where the defendant is: (a) the Department, any component of the Department, or any employee of the Department in his or her official capacity; (b) the United States where the Department determines that the claim, if successful, is likely to directly affect the operations of the Department or any of its components; or (c) any Department employee in his or her individual capacity where the Department of Justice has agreed to represent such employee, for example, in defending a claim against the Public Health Service based upon an individual's mental or physical condition and alleged to have arisen because of activities of the Public Health Service in connection with such individual, disclosure may be made to the Department of Justice to enable that Department to present an effective defense, provided that such disclosure is compatible with the purpose for which the records were collected.

Records subject to the Privacy Act are disclosed to private firms for data entry, computer systems analysis and computer programming services. The contractors promptly return data entry records after the contracted work is completed. The contractors are required to maintain Privacy Act safeguards.

In the event of litigation initiated at the request of NIOSH, the Institute may disclose such records as it deems desirable or necessary to the Department of Justice and to the Department of Labor, Office of the Solicitor, where appropriate, to enable the Departments to effectively represent the Institute, provided such disclosure is compatible with the purpose for which the records were collected. The only types of litigative proceedings that NIOSH is authorized to request are: (1) enforcement of a subpoena issued to an employer to provide relevant information; or (2) contempt citation against an employer for failure to comply with a warrant obtained by the Institute.

Disclosure may be made to NIOSH collaborating researchers (NIOSH contractors, grantees, cooperative agreement holders, or other Federal or State scientists) in order to accomplish the research purpose for which the records are collected. The collaborating researchers must agree in writing to comply with the confidentiality provisions of the Privacy Act and NIOSH must have determined that the researchers' data security procedures will protect confidentiality.

Records may be disclosed by CDC in connection with public health activities to the Social Security Administration for sources of locating information to accomplish the research or program purposes for which the records were collected.

Records may be disclosed to appropriate federal agencies and Department contractors that have a need to know the information for the purpose of assisting the Department's efforts to respond to a suspected or confirmed breach of the security or confidentiality of information disclosed is relevant and necessary for that assistance.

IV. Effects of the Proposed System of Records on Individual Rights

The routine uses proposed for this System are compatible with the stated purpose of the System:

The first routine use permits an individual may learn if a record exists about himself or herself by contacting the system manager at the address above. Requesters in person must provide driver's license or other positive identification. Individuals who do not appear in person must either: (1) submit a notarized request to verify their identity; or (2) certify that they are the individuals they claim to be and that they understand that the knowing and willful request for or acquisition of a record pertaining to an individual under false pretenses is a criminal offense under the Privacy Act subject to a $5,000 fine.

An individual who requests notification of or access to medical records shall, at the time the request is made, designate in writing a responsible representative who is willing to review the record and inform the subject individual of its contents at the representative's discretion.

The following information must be provided when requesting notification: (1) full name; (2) the approximate date and place of the study, if known; and (3) nature of the questionnaire or study in which the requester participated.

Same as notification procedures. Requesters should also reasonably specify the record contents being sought. An accounting of disclosures that have been made of the record, if any, may be requested.

V. Safeguards

The records in this System are stored in file folders. Service fellow personnel data is also maintained in an automated database. The records in this System are retrieved by the name of the individual, fellow, or guest researcher.

The records in this System have the following safeguards in place to maintain and protect the information as it relates to Authorized users, physical and procedural safeguards:

Authorized users—Access is granted to only a limited number of physicians, scientists, statisticians, and designated support staff of the Centers for Disease Control and Prevention (CDC), as authorized by the system manager to accomplish the stated purposes for which the data in this system have been collected.

Physical Safeguards—Locked cabinets in locked rooms, electronic anti-intrusion devices in operation at the Federal Records Center, security guard service in buildings, personnel screening of visitors.

Procedural Safeguards—Users of individually identified data protect information from public scrutiny, and only specifically authorized personnel may be admitted to the record storage area. CDC employees who maintain records are instructed to check with the system manager prior to making disclosures of data.

Implementation Guidelines: The safeguards outlined above in accordance with the Chapter 45-13, “Safeguarding Records Contained in Systems of Records,” of the HHS General Administration Manual.

The records in this System are retained and disposed of in the following way: Personal identifiers are destroyed as soon as they are no longer necessary for the protection of the individuals involved. Records are maintained in agency for three years. Records are maintained according to the provisions of the CDC Records Control Schedule for NIOSH records. Disposal methods include burning or shredding paper materials or transferring records to the Federal Records Center when no longer needed for evaluation and analysis. Records destroyed by paper recycling process when 20 years old, unless needed for further study.

VI. OMB Control Numbers, Expiration Dates, and Titles of Information Collection

A. Full Title: “Medical and Test Record Results of Individuals Involved in NIOSH Laboratory Studies, HHS/CDC/NIOSH.”

OMB Control Number: 09-20-0117.

Expiration Date: TBD.

VII. Supporting Documentation

A. Preamble and Proposed Notice of System for publication in the Federal Register.

B. Agency Rules: None.

C. Exemption Requested: None.

D. Computer Matching Report: The new system does not require a matching report in accordance with the computer matching provisions of the Privacy Act.

[FR Doc. 2010-33015 Filed 1-24-11; 8:45 am]

BILLING CODE 4163-18-P